SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: December 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals By Rule Issued Under 18 CFR 806.22(e):

1. The Hershey Company; ABR-201812001; Hazle Township, Luzerne County, Pa.; Consumptive Use of Up to 0.051 mgd; Approval Date: December 6, 2018.

Approvals By Rule Issued Under 18 CFR 806.22(f):

1. XPR Resources, LLC; Pad ID: Alder Run Land LP 1H, ABR-201812002; Cooper Township, Clearfield County, Pa.; Consumptive Use of Up to 0.9990 mgd; Approval Date: December 14, 2018.

2. XPR Resources, LLC; Pad ID: Alder Run Land 3H, ABR-201812003; Cooper Township, Clearfield County, Pa.; Consumptive Use of Up to 0.9990 mgd; Approval Date: December 14, 2018.

3. SWN Production Company, LLC; Pad ID: NR-14-BRANT-PAD, ABR-201312001.R1; Great Bend Township, Susquehanna County, Pa.; Consumptive Use of Up to 4.9990 mgd; Approval Date: December 17, 2018.

4. SWN Production Company, LLC; Pad ID: NR-11-DAYTON-PAD, ABR-201312002.R1; Great Bend Township, Susquehanna County, Pa.; and Town of Windsor, Broome County, NY; Consumptive Use of Up to 4.9990 mgd; Approval Date: December 17, 2018.

5. SWN Production Company, LLC; Pad ID: RU-40-BREESE-PAD; ABR-201312003.R1; New Milford Township, Susquehanna County, Pa.; Consumptive Use of Up to 4.9990 mgd; Approval Date: December 17, 2018.

6. ARD Operating, LLC; Pad ID: Kurt Haufler Pad A, ABR-201312005.R1; Cogan House Township, Lycoming County, Pa.; Consumptive Use of Up to 4.0000 mgd; Approval Date: December 27, 2018.

Authority: Pub. L. 91-575, 84 Stat. 1509 et seq., 18 CFR parts 806, 807, and 808.

Dated: February 1, 2019.
Jason E. Oyler,
Acting Secretary to the Commission.

[FR Doc. 2019-01245 Filed 2-5-19; 8:45 am]

BILLING CODE 7040-01-P